DEPARTMENT OF TRANSPORTATION

Federal Aviation Administration

14 CFR Part 121

[Docket No. FAA-2013-0944]

Pilot Assigned as Second in Command; Legal Interpretation

AGENCY: Federal Aviation Administration (FAA), DOT.

ACTION: Notice of availability.

SUMMARY: On November 13, 2013, the FAA sought comment on a proposed legal interpretation intended to clarify the qualification requirements for the pilot assigned as second in command on a flight in part 121 operations that require three or more pilots and the pilot who provides relief to the assigned second in command during the en route cruise portion of the flight. On April 29, 2014, the FAA issued a legal interpretation on these issues. This legal interpretation is available on the agency's Web site and in the docket for the proposed legal interpretation.

DATES: June 4, 2014.

ADDRESSES: You may review the public docket for the proposed legal interpretation (Docket No. FAA-2013-0944) on the Internet at www.regulations.gov. You may also review the public docket at the Docket Management Facility in Room W12-140, of the West Building Ground Floor at 1200 New Jersey Avenue SE., Washington, DC, between 9 a.m. and 5 p.m., Monday through Friday, except Federal holidays.

FOR FURTHER INFORMATION CONTACT: Sara Mikolop, Attorney, Regulations Division, Office of the Chief Counsel, Federal Aviation Administration, 800 Independence Avenue SW., Washington, DC 20591; telephone: 202 267-3073.

SUPPLEMENTARY INFORMATION: On November 13, 2013, the FAA sought comment on a proposed legal interpretation intended to clarify the qualification requirements for (1) the pilot assigned as second in command (SIC) on a flight in part 121 operations that require three or more pilots and (2) the pilot who provides relief to the assigned SIC during the en route cruise portion of the flight. See 78 FR 67983 (Nov. 13, 2013). The agency received 15 comments on the proposed legal interpretation.

On April 29, 2014, the FAA issued a legal interpretation on these issues. The legal interpretation was adopted as proposed with minimal clarifying information. It is available on the agency's Web site ¹ and in docket FAA-2013-0944.² (A related legal interpretation provided to Southern Air Inc. can also be found on the agency's Web site and in docket FAA-2013-0944.) This legal interpretation reaffirms Legal Interpretation 1978-27, which stated § 121.432(a) requires a pilot who serves as SIC of an operation that requires three or more pilots to meet all pilot in command (PIC) qualification requirements except for PIC operating experience. This legal interpretation also clarifies that the pilot relieving the assigned SIC during the en route portion of the flight need not meet the additional SIC qualification requirements identified in § 121.432(a).

¹ www.faa.gov/about/office_org/headquarters_offices/agc/pol_adjudication/agc200/interpretations.

² Instructions for access to docket FAA-2013-0944 can be found in the ADDRESSES section of this document.

Issued in Washington, DC, on May 29, 2014.
Mark W. Bury,
Assistant Chief Counsel for International Law, Legislation and Regulations.

[FR Doc. 2014-12982 Filed 6-3-14; 8:45 am]

BILLING CODE 4910-13-P